DEPARTMENT OF ENERGY

Federal Energy Regulatory Commission

[Docket No. IC13-08-000]

Commission Information Collection Activities (FERC-556); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC Form No. 556, “Certification of Qualifying Facility (QF) Status for a Small Power Production or Cogeneration Facility” (Form No. 556), to the Office of Management and Budget (OMB) for review of the information collection requirements. Any interested person may file comments directly with OMB and should address a copy of those comments to the Commission as explained below. The Commission issued a Notice in the Federal Register (77 FR 77067, 12/31/2012) requesting public comments. FERC received no comments on the FERC-556 and is making this notation in its submittal to OMB.

DATES: Comments on the collection of information are due by April 15, 2013.

ADDRESSES: Comments filed with OMB, identified by the OMB Control No. 1902-0075, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-8-000, by either of the following methods:

• eFiling at Commission's Web Site: http://www.ferc.gov/docs-filing/efiling.asp.

• Mail/Hand Delivery/Courier: Federal Energy Regulatory Commission, Secretary of the Commission, 888 First Street, NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC Form No. 556, Certification of Qualifying Facility (QF) Status for a Small Power Production or Cogeneration Facility.

OMB Control No.: 1902-0075.

Type of Request: Three-year extension of the Form No. 556 information collection requirements with no changes to the current reporting requirements.

Abstract: The Commission requires the Form No. 556 to implement the statutory provisions in Sections 201 and 210 of the Public Utility Regulatory Policies Act of 1978 (PURPA).¹ FERC is authorized to encourage cogeneration and small power production and to prescribe such rules as necessary in order to carry out the statutory directives.

¹ Public Law 95-617, November 9, 1978, 92 Stat. 3117. Codified at 16 U.S.C. 46,2601-45.

A primary statutory objective is the conservation of energy through efficient use of energy resources and facilities by electric utilities. One means of achieving this goal is to encourage production of electric power by cogeneration facilities which make use of reject heat associated with commercial or industrial processes, and by small power production facilities which use other wastes and renewable resources. PURPA, encourages the development of small power production facilities and cogeneration facilities which meet certain technical and corporate criteria through establishment of various regulatory benefits. Facilities that meet these criteria are called Qualifying Facilities or QFs.

FERC's regulations ² specify:

² 18 CFR part 292.

• the certification procedures which must be followed by owners or operators of small power production and cogeneration facilities;

• the criteria which must be met;

• the information which must be submitted to FERC in order to obtain qualifying status;

• the PURPA benefits which are available to QFs to encourage small power production and cogeneration; and

• the requirements pertaining to PURPA implementation plans regarding the transaction obligations that electric utilities have with respect to QFs.

Among PURPA provisions in Part 292 are requirements for electric utilities to:

• purchase energy and capacity from QFs favorably priced on the basis of the avoided cost of the power that is displaced by the QF power (i.e. the incremental cost to the purchasing utility if it had generated the displaced power or purchased it from another source);

• sell backup, maintenance and other power services to QFs at rates based on the cost of rendering the services;

• provide certain interconnection and transmission services priced on a nondiscriminatory basis;

• operate in “parallel” with other interconnected QFs so that they may be electrically synchronized with electric utility grids; and

• make available to the public avoided cost information and system capacity needs.

18 CFR part 292 exempts QFs from certain corporate, accounting, reporting and rate regulation requirements, certain state laws and in certain instances, regulation under the Federal Power Act ³ and the Public Utility Holding Company Act of 2005.⁴

³ 16 U.S.C. 791, et seq.

⁴ 42 U.S.C. 16, 451-63.

Type of Respondents: Respondents to the Form No. 556 are cogeneration facilities and small power producers with a generating capacity greater than 1Megawatt (MW) who are self-certifying their status as a cogenerator facility or small power producer facility or who are submitting an application for FERC certification of their status as a cogenerator facility.

Estimate of Annual Burden ⁵: The Commission estimates the total Public Reporting Burden for this information collection as:

⁵ The Commission defines burden as the total time, effort, or financial resources expended by persons to generate, maintain, retain, or disclose or provide information to or for a Federal agency. For further explanation of what is included in the information collection burden, reference 5 Code of Federal Regulations 1320.3.

Form No. 556 (IC13-8-000): Certification of Qualifying Facility (QF) Status for a Small Power Production or Cogeneration Facility
Facility type | Filing type | Number of respondents | Total number of responses | Average burden hours per response | Estimated total annual burden hours
|  | (A) | (B) | (C) | (A) × (B) × (C)
cogeneration facility > 1MW | self-certification | 53 | 2 | 8 | 848
cogeneration facility > 1MW | application for FERC certification | 2 | 2 | 50 | 200
small power production facility > 1 MW | self-certification | 690 | 2 | 3 | 4,140
small power production facility > 1 MW | application for FERC certification | 0 | 0 | 6 | 0
cogeneration and small power production facility ≤ 1MW (not required to file) | self-certification | 192 | 2 | 3 | 1,152
Totals |  | 937 |  |  | 6,340

The total estimated annual cost burden to respondents is $374,757.40 [6,340 * $59.11].⁶

⁶ The cost figures are derived by multiplying the total hours to prepare a response (hours) by an hourly wage estimate of $59.11 (a composite estimate that includes legal, engineering and support staff wages and benefits obtained from the Bureau of Labor Statistic data at http://bls.gov/oes/current/naics3_221000.htm and http://www.bls.gov/news.release/ecec.nr0.htm rates.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 7, 2013.
Kimberly D. Bose,
Secretary.

[FR Doc. 2013-05948 Filed 3-14-13; 8:45 am]

BILLING CODE 6717-01-P